DEPARTMENT OF STATE

[Public Notice 4516]

Bureau of Educational and Cultural Affairs Request for Grant Proposals: Internet Access and Training Program in the Caucasus, Central Asia and Russia

SUMMARY: The Office of Academic Exchange Programs of the Bureau of Educational and Cultural Affairs announces an open competition for the Internet Access and Training Program (IATP) in the Caucasus, Central Asia and Russia. Public and private non-profit organizations meeting the provisions described in Internal Revenue Code section 26 USC 501(c)(3) may submit proposals to oversee and carry out IATP operations, including the establishment of new IATP sites, the maintenance and enhancement of existing sites, the development of Internet outreach and educational projects, and engaging ECA alumni and other targeted groups in the IATP. All activities of the IATP will be undertaken in regular and consistent consultation with the Public Affairs Section (PAS) of the U.S. Embassy in each participating country. Applicants may submit proposals to implement the program in only one of the three regions, (Russia, Caucasus, Central Asia) or in two or all three regions. Important Note: This Request for Grant Proposals contains language in the “Shipment and Deadline for Proposals” section that is significantly different from that used in the past. Please pay special attention to procedural changes as outlined.

Program Information

Overview

The Internet Access and Training Program (IATP) was established in 1995 with funding from the FREEDOM Support Act (FSA) to multiply the U.S. Government's investment in exchanges by supporting and maintaining contact with the over 100,000 Eurasian alumni of U.S. Government-funded programs through a network of public Internet access sites in twelve countries of Eurasia. IATP centers extend the exchange experience and expand avenues of mutual understanding by continuing to engage alumni and other targeted groups in U.S. based programs and dialogues. In Eurasia, where Internet access and freedom of information is often restricted by economic and political factors, IATP public access Internet sites allow USG exchange alumni to maintain contact with their host institutions and colleagues in the United States and across their home region, as well as with U.S. government officials and U.S. exchange NGOs, while maintaining access to world wide information centers. They also serve as catalysts for alumni action by furthering the ability of alumni to introduce American values and practices into their home societies. The IATP centers train alumni in practical and meaningful uses of the Internet, including how to create a website, how to design distance learning courses, publish journals and use databases. Exchange alumni also design courses and lead training sessions at the centers to transfer their knowledge and skills to their home communities. IATP sites are most often located at public libraries and at universities that provide unrestricted access to USG exchange alumni and other key individuals, such as educators, NGO staff members and journalists.

The main components of this program for which grant funding is provided are:

1. Enhancement of existing IATP sites.

2. Maintenance of existing IATP sites.

3. Establishment of new IATP sites.

4. Outreach and educational activities at IATP sites.

5. Monitoring of IATP activities.

6. Evaluation of IATP activities, including the sustainability of open access to information and Internet training.

Subject to the availability of funds, it is anticipated that the grants will begin on or about May 1, 2004. The grant period should be fifteen to twenty-four months. Please refer to the Solicitation Package for further information.

Budget Guidelines

All organizations applying under this competition must demonstrate in their proposal narrative a minimum of four years experience managing and conducting international exchange programs. Bureau grant guidelines require that organizations with less than four years of experience managing and conducting international exchange programs be limited to $60,000. Since the grant or grants under the competition will exceed the $60,000 ceiling, organizations with less than four years experience, per above, are not eligible to apply under this competition.

Applicants must submit a comprehensive budget for each program. ECA anticipates awarding $4,795,000 ($340,000 in Armenia, $420,000 in Azerbaijan, $345,000 in Georgia in the Caucasus; $380,000 in Kazakhstan, $345,000 in Kyrgyzstan, $445,000 in Tajikistan, $150,000 in Turkmenistan, $380,000 in Uzbekistan in Central Asia; $1,990,000 in Russia) to support the program and administrative costs required to implement this program. ECA encourages applicants to provide maximum levels of cost sharing and funding from private sources in support of its programs. There must be a summary budget as well as breakdowns reflecting both administrative and program budgets. Applicants may provide separate sub-budgets for each program component, phase, location, or activity to provide clarification. Please refer to the Solicitation Package for complete budget guidelines and formatting instructions.

Announcement Title and Number

All correspondence with ECA concerning this RFGP should reference the above title and number ECA/A/E/EUR-04-04.

FOR FURTHER INFORMATION CONTACT: The Office of Academic Exchanges, ECA/A/E/EUR, Room 246, SA-44, U.S. Department of State, 301 4th Street, SW., Washington, DC 20547, tel. (202) 205-0525, fax (202) 260-7985, exchanges@pd.state.gov to request a Solicitation Package. The Solicitation Package contains detailed award criteria, required application forms, specific budget instructions, and standard guidelines for proposal preparation. Please specify ECA Senior Program Manager Ilo-Mai Harding on all other inquiries and correspondence.

Please read the complete Federal Register announcement before sending inquiries or submitting proposals. Once the RFGP deadline has passed, Department of State staff may not discuss this competition with applicants until the proposal review process has been completed.

New OMB Requirement

An OMB policy directive published in the Federal Register on Friday, June 27, 2003, requires that all organizations applying for Federal grants or cooperative agreements must provide a Dun and Bradstreet (D&B) Data Universal Numbering System (DUNS) number when applying for all Federal grants or cooperative agreements after October 1, 2003. The complete OMB policy directive can be referenced at http://www.whitehouse.gov/omb/fedreg/062703_grant_identifier.pdf. Please also visit the ECA Web site at http://exchanges.state.gov/education/rfgps/menu/htm for additional information on how to comply with this new directive.

To Download a Solicitation Package via Internet

The Solicitation Package may be downloaded from ECA's Web site at http://exchanges.state.gov/education/RFGPs. Please read all information before downloading.

Shipment and Deadline for Proposals

Important Note: The deadline for this competition is Monday, December 8, 2003. In light of recent events and heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. Delivery of proposal packages may not be made via local courier service or in person for this competition. Faxed documents will not be accepted at any time. Only proposals submitted as stated above will be considered.

Applicants must follow all instructions in the Solicitation Package. The original and eight (8) copies of the application should be sent to: U.S. Department of State, SA-44, Bureau of Educational and Cultural Affairs, Ref.: ECA/A/E/EUR-04-04, Program Management, ECA/EX/PM, Room 534, 301 4th Street, SW., Washington, DC 20547.

Applicant must also submit the “Executive Summary” and “Proposal Narrative” section of the proposals in text (.txt) format on a PC-formatted disc. The Bureau will provide these files electronically to the Public Affairs Section at U.S. Embassies for their review.

Diversity, Freedom and Democracy Guidelines

Pursuant to ECA's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” ECA “shall take appropriate steps to provide opportunities for participation in such programs to human rights and democracy leaders of such countries.” Public Law 106-113 requires that the governments of the countries described above do not have inappropriate influence in the selection process. Proposals should reflect advancement of these goals in their program contents, to the full extent deemed feasible.

Adherence to All Regulations Governing the J Visa

For your information only:

The Bureau of Educational and Cultural Affairs is placing renewed emphasis on the secure and proper administration of Exchange Visitor (J visa) Programs and adherence by grantees and sponsors to all regulations governing the J visa. Therefore, proposals should demonstrate the applicant's capacity to meet all requirements governing the administration of Exchange Visitor Programs as set forth in 22 CFR part 6Z, including the oversight of Responsible Officers and Alternate Responsible Officers, screening and selection of program participants, provision of pre-arrival information and orientation to participants, monitoring of participants, proper maintenance and security of forms, record-keeping, reporting and other requirements. The Grantee will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 401-9810, FAX: (202) 401-9809.

Review Process

ECA will acknowledge receipt of all proposals and will review them for technical eligibility. Proposals will be deemed ineligible if they do not fully adhere to the guidelines stated herein and in the Solicitation Package.

All eligible proposals will be reviewed by the program office, as well as by the Public Affairs Sections overseas, where appropriate. Eligible proposals will be subject to compliance with Federal and ECA regulations and guidelines and forwarded to Department of State grant panels for advisory review. Proposals may also be reviewed by the Office of the Legal Adviser or by other Department elements. Final funding decisions are at the discretion of the Department of State's Acting Assistant Secretary for Educational and Cultural Affairs. Final technical authority for assistance awards (grants or cooperative agreements) resides with ECA's Grants Officer.

Review Criteria

Technically eligible applications will be competitively reviewed according to the criteria stated below. These criteria are not rank ordered and all carry equal weight in the proposal evaluation:

1. Program Development and Management: The proposal should exhibit originality, substance, precision, innovation, and relevance to ECA's mission. Objectives should be reasonable, feasible and flexible. The proposal should clearly demonstrate how the grantee organization will meet the program's objectives. A relevant work plan should demonstrate substantive undertakings and logistical capacity. The work plan should adhere to the program overview and guidelines described above.

2. Multiplier Effect/Impact: The IATP should strengthen long-term mutual understanding, including maximum sharing of information and Internet expertise. The applicant organization should include ECA alumni as a resource for facilitating IATP outreach and education.

3. Support of Diversity: The proposal should demonstrate the grantee organization's commitment to promoting the awareness and understanding of diversity through geographic distribution of IATP sites and outreach to groups identified in consultation with PAS officers in each region.

4. Institution's Record/Ability: The proposal should demonstrate an institutional record of successful administration of Internet programs. Proposed personnel and institutional resources should be adequate and appropriate to achieve the program's goals.

5. Project Evaluation: The proposal should include a plan to evaluate the success of the IATP. ECA recommends that the proposal include a draft survey questionnaire or other technique, plus a description of methodologies that can be used to link outcomes to original project objectives. The applicant organization will be expected to submit periodic progress reports that elucidate the successes achieved, and obstacles encountered, by the IATP.

6. Cost-Effectiveness and Cost Sharing: The overhead and administrative components of the proposal, including salaries and honoraria, should be kept as low as possible. All other items should be necessary and appropriate. The proposal should maximize cost sharing through other private sector support as well as institutional direct funding contributions.

7. Follow-on and Sustainability: The proposal should provide a plan for continued follow-on activity that ensures that ECA-supported programs are not isolated events, but have meaning and scope beyond the time the actual exchange took place. The proposal should address the feasibility of sustaining viable IATP sites and training seminars after ECA funding ends.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided in part through the FREEDOM Support Act of 1992.

Notice

The terms and conditions published in this RFGP are binding and may not be modified by any ECA representative. Explanatory information provided by ECA that contradicts published language will not be binding. Issuance of the RFGP does not constitute an award commitment on the part of the Government. ECA reserves the right to reduce, revise, or increase proposal budgets in accordance with the needs of the program and the availability of funds. Awards made will be subject to periodic reporting and evaluation requirements.

Notification

Final awards cannot be made until funds have been appropriated by Congress, allocated and committed through internal Bureau procedures.

Dated: October 15, 2003.
C. Miller Crouch,
Principal Deputy Assistant Secretary for Educational and Cultural Affairs, Department of State.

[FR Doc. 03-26525 Filed 10-20-03; 8:45 am]

BILLING CODE 4710-05-P